FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary Applicants:

Doma Consolidating Inc. dba Doma Shipping, 2520 S. State Street, Chicago, IL 60616, Officers:Asimoula Georgalas, President (Qualifying Individual), Dimitrios Kouklakis, Stockholder.

World Cargo Service, Inc., 6905 NW 73 Court, Miami, FL 31166, Officers:Gregorio Zambrano, President (Qualifying Individual), Diana Julieta Rodriguez, Vice President.

Logistics Unlimited, Inc., 30 Mauchly, Suite A, Irvine, CA 92618, Officers:Dennis B. Crosby, Vice President (Qualifying Individual), Ted G. Shown, President/CFO.

Cargo Flow, Inc., 309 Beebe Road, Mineola, NY 11501, Officers:Power Cheng, President (Qualifying Individual), Shu Ju Chi, Secretary.

Unius LLC, 27653 Echo Valley W., Farmington Hills, MI 48334, Officer:Aram Grigoryan, President/Secretary/Treasurer (Qualifying Individual).

Fraiser Polanco dba Quisqueya Cargo Express, 421 W. Tilghman Street, Allentown, PA 18102, Officer:Fraiser Polanco, Sole Proprietor (Qualifying Individual).

America Pak Agency, Inc. dba Centrans Marine Shipping, Inc., 6161 Savoy Drive, Suite 300, Houston, TX 77036, Officer:Jun (James) Ping, President (Qualifying Individual).

Seagull Maritime Agencies Private Limited, E-40/3, Okhla Industrial Area, Phase II, New Delhi, 110 020, India, Officers:Ashutosh L. Korde, President/CEO/Director (Qualifying Individual), Nitin Agarwal, Director.

American Logistics USA, Inc., 320 Pine Avenue, Suite 511, Long Beach, CA 90802, Officers:Mian S. Waheed, Vice President/Secretary (Qualifying Individual), Rafia S. Waheed, President.

Non-Vessel-Operating Common Carrier and Ocean Freight Forwarder Ocean Transportation Intermediary Applicants:

Damco USA Inc. dba Damco, Damco Sea and Air, Damco Maritime, DSL Star Express, Maersk Logistics, Giralda Farms, Madison Avenue, P.O. Box 880, Madison, NJ 07940, Officers:Jens F. Wessel, Vice President (Qualifying Individual), Jeremy T. Haycock, Chairman/President.

USA Intercargo, LLC, 564 Industrial Drive, Carmel, IN 46032, Officer:Mindaugas Balcius, Sole Member (Qualifying Individual).

CDS Global Logistics, Inc. dba USNW Express, One Cross Island Plaza, Suite 118, Rosedale, NY 11422, Officers:Henry Wiseman, President (Qualifying Individual), Viu Hing Mok, Director.

Morrison Express Corporation (U.S.A.), 2000 Hughes Way, El Segundo, CA 90245, Officers:Vincent Chih-Yu Kao, Deputy General Manager (Qualifying Individual), Danny Chiu, President/Director.

IAL Container Line (USA) Inc., 50 Cragwood Road, Suite 115, South Plainfield, NJ 07080, Officers:Sridhar Rajagopalan, Secretary (Qualifying Individual), Nitin Bhagat, President/C.O.O.

Kenny Kyusup Kim dba K-Way Express, 2373 E. Pacifica Place, Rancho Dominguez, CA 90220. Officer:Kenney Kyusup Kim, Sole Proprietor (Qualifying Individual).

Quantum Group LLC, 346 Bennetts Farm Road, Ridgefield, CT 06877, Officer:Kenneth P. Treschitta, President/CEO (Qualifying Individual).

Miami Warehouse Logistics, Inc., 9251 NW 100th Street, Miami, FL 33178, Officer:Alexis Roldos, President/Secretary (Qualifying Individual).

Ocean Freight Forwarder—Ocean Transportation Intermediary Applicants:

All American Worldwide, Inc., 610 Presidential Drive, Suite 110, Richardson, TX 75081, Officers:Judson H. Good, II, President (Qualifying Individual), Debera D. Good, Secretary.

Russell Burns, Inc. dba Interworld Services, 16003 Crooked Lake Way S., Cypress, TX 77433, Officer:Russell Burns, President (Qualifying Individual).

All Freight Transportation Services, Inc., 1138 N. Main Street, Algonquin, IL 60102,. Officer:Richard A. Pena, Jr., President/Secretary (Qualifying Individual).

V. Alexander & Company, Inc., 22 Century Blvd., Suite 510, Nashville, TN 37214, Officers:Michael D. Swett, Vice President/CIO (Qualifying Individual), D.F. Brown, Jr., President/Chairman of the Board.

Cesar A. Benoit and Hadee Benoit dba Cesar Cargo Express 532 Chestnut Street, Lynn, MA 01904, Officers:Cesar Augusto Benoit, Partner (Qualifying Individual), Hadee Benoit, Partner.

Freight America Express Inc., 25 Western Industrial Drive, Cranston, RI 02921. Officer:Keith T. Brandow, President/Secretary/Treasurer (Qualifying Individual).

Dated: January 22, 2010.
Karen V. Gregory,
Secretary.

[FR Doc. 2010-1639 Filed 1-27-10; 8:45 am]

BILLING CODE 6730-01-P